DEPARTMENT OF COMMERCE

International Trade Administration

[A-201-805]

Circular Welded Non-Alloy Steel Pipe From Mexico: Extension of Time Limit for Final Results of Antidumping Duty Administrative Review

AGENCY: Import Administration, International Trade Administration, Department of Commerce.

EFFECTIVE DATE: March 31, 2000.

FOR FURTHER INFORMATION CONTACT: John Drury (202) 482-0195 or Charles Rast at (202) 482-1324, Import Administration, International Trade Administration, U.S. Department of Commerce, 14th Street and Constitution Ave, NW, Washington, D.C. 20230.

Time Limits

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On December 23, 1998, the Department published a notice of initiation of administrative review of the antidumping duty order on Circular Welded Non-Alloy Steel Pipe from Mexico covering the period November 1, 1997 through October 31, 1998 (63 FR 71091). On August 12, 1999, the Department published a notice of extension of the time limit for the preliminary results in this case to November 30, 1999 (64 FR 43982). On December 9, 1999, the Department published the preliminary results of review (64 FR 68995). The final results are currently due no later than April 7, 2000.

Extension of Time Limit for Preliminary Results of Review

We determine that it is not practicable to complete the preliminary results of this review within the original time limit. Therefore the Department is extending the time limit for completion of the final results until no later than June 6, 2000. See Decision Memorandum from Richard O. Weible to Joseph A. Spetrini, dated March 23, 2000, which is on file in the Central Records Unit, Room B-099 of the main Commerce building.

This extension is in accordance with section 751(a)(3)(A) of the Act.

Dated: March 23, 2000.
Richard O. Weible,
Acting Deputy Assistant Secretary, AD/CVD Enforcement, Group III.

[FR Doc. 00-8013 Filed 3-30-00; 8:45 am]

BILLING CODE 3510-DS-P